DEPARTMENT OF ENERGY

Federal Energy Regulatory Commission

[Docket No. CP11-39-000]

Dominion Transmission, Inc.; Notice of Intent To Prepare an Environmental Assessment for the Northeast Expansion Project and Request for Comments on Environmental Issues

January 5, 2011.

The staff of the Federal Energy Regulatory Commission (FERC or Commission) will prepare an environmental assessment (EA) that will discuss the environmental impacts of the Northeast Expansion Project (Project) proposed by Dominion Transmission, Inc. (DTI). The Project consists of a total of 32,440 horsepower (hp) of compression to be installed at three existing compressor stations, a new meter station, and an upgrade at an existing regulator station, all located at existing DTI facilities in Pennsylvania. This EA will be used by the Commission in its decision-making process to determine whether the Project is in the public convenience and necessity.

This notice announces the opening of the scoping process the Commission will use to gather input from the public and interested agencies on the Project. Your input will help the Commission staff determine what issues need to be evaluated in the EA. Please note that the scoping period will close on February 4, 2011.

This notice is being sent to the Commission's current environmental mailing list for this Project. State and local government representatives are asked to notify their constituents of this planned Project and encourage them to comment on their areas of concern.

Summary of the Proposed Project

DTI is seeking authorization to construct, own, and operate the proposed Project, which would involve expansion at several of DTI's existing aboveground facilities in Western Pennsylvania. DTI is proposing to install additional compression units at its existing Punxsutawney, Ardell, and Finnefrock Compressor Station in Jefferson/Indiana, Elk, and Clinton Counties, Pennsylvania. All construction would take place within the stations fence lines and in adjacent stations areas within DTI's property boundaries. DTI states that the Project would provide 200,000 dekatherms per day of firm transportation services in Pennsylvania, creating increased access for production in this region to major natural gas markets of the Northeast and Mid-Atlantic regions of the United States.

The proposed Project consists of the following:

• Punxsutawney Compressor Station—install one gas turbine/compressor package that would consist of a Solar C404 compressor driven by a Solar Centaur gas turbine rated at 6,130 hp. The turbine would be fueled by natural gas and would be placed in a new compressor building.

• Ardell Compressor Station—install one gas turbine/compressor package that would consist of a Solar C45 compressor driven by a Solar Taurus 70 gas turbine rated at 10,310 hp. The turbine would be fueled by natural gas and would be placed in a new compressor building.

• Finnefrock Compressor Station—install one gas turbine/compressor package that would consist of a Solar C453 centrifugal compressor driven by a Solar Mars 100 gas turbine, rated at 16,000 hp.

• Leidy Compressor Station—upgrade an existing Measurement and Regulation (M&R) facility within the fence line of the Leidy Compressor Station.

• Punxsutawney Compressor Station—install one new crossover line with M&R which links the existing suction piping to LN-280.

The general location of the Project facilities is shown in appendix 1.¹

¹ The appendices referenced in this notice are not being printed in the Federal Register. Copies of appendices were sent to all those receiving this notice in the mail and are available at http://www.ferc.gov using the link called “eLibrary” or from the Commission's Public Reference Room, 888 First Street, NE., Washington, DC 20426, or call (202) 502-8371. For instructions on connecting to eLibrary, refer to the last page of this notice.

Land Requirement for Construction

Construction of the Project would involve temporary disturbance of a total of 41.5 acres of land with DTI's property boundaries which would include an 18.2 acres within existing compressor station fence lines and 23.2 acres within DTI's property. For construction activities within DTI's property, 14.6 acres would be required for the Punxsutawney Station, 1.4 acres for the Ardell Station, and 6.2 acres for the Finnefrock Station. DTI would utilize the construction work areas for equipment and materials laydown, and parking. Following construction, these construction work areas would be restored, stabilized, and seeded. Operation of the Project would involve 1.9 acres of lands.

The EA Process

The National Environmental Policy Act (NEPA) requires the Commission to take into account the environmental impacts that could result from an action whenever it considers the issuance of a Certificate of Public Convenience and Necessity. NEPA also requires us ² to discover and address concerns the public may have about proposals. This process is referred to as “scoping”. The main goal of the scoping process is to focus the analysis in the EA on the important environmental issues. By this notice, the Commission requests public comments on the scope of the issues to address in the EA. All comments received will be considered during the preparation of the EA.

² “We”, “us”, and “our” refer to the environmental staff of the Commission's Office of Energy Projects.

In the EA we will discuss impacts that could occur as a result of the construction and operation of the proposed Project under these general headings:

• Geology and soils;

• Land use;

• Water resources, fisheries, and wetlands;

• Cultural resources;

• Vegetation and wildlife, including migratory birds;

• Air quality and noise;

• Endangered and threatened species; and

• Public safety.

We will also evaluate reasonable alternatives to the proposed Project or portions of the Project, and make recommendations on how to lessen or avoid impacts on the various resource areas.

Our independent analysis of the issues will be presented in the EA. The EA will be placed in the public record and, depending on the comments received during the scoping process, may be published and distributed to the public. A comment period will be allotted if the EA is published for review. We will consider all comments on the EA before we make our recommendations to the Commission. To ensure your comments are considered, please carefully follow the instructions in the Public Participation section below.

With this notice, we are asking agencies with jurisdiction and/or special expertise with respect to environmental issues to formally cooperate with us in the preparation of the EA. These agencies may choose to participate once they have evaluated the proposal relative to their responsibilities. Agencies that would like to request cooperating agency status should follow the instructions for filing comments provided under the Public Participation section of this notice.

Public Participation

You can make a difference by providing us with your specific comments or concerns about the Project. Your comments should focus on the potential environmental effects, reasonable alternatives, and measures to avoid or lessen environmental impacts. The more specific your comments, the more useful they will be. To ensure that your comments are timely and properly recorded, please send your comments so that they will be received in Washington, DC on or before February 4, 2011.

For your convenience, there are three methods which you can use to submit your comments to the Commission. In all instances please reference the Project docket number (CP11-39-000) with your submission. The Commission encourages electronic filing of comments and has expert eFiling staff available to assist you at (202) 502-8258 or efiling@ferc.gov.

(1) You may file your comments electronically by using the eComment feature, which is located on the Commission's Web site at http://www.ferc.gov under the link to Documents and Filings. An eComment is an easy method for interested persons to submit brief, text-only comments on a project;

(2) You may file your comments electronically by using the eFiling feature, which is located on the Commission's Web site at http://www.ferc.gov under the link to Documents and Filings. With eFiling you can provide comments in a variety of formats by attaching them as a file with your submission. New eFiling users must first create an account by clicking on “eRegister.” You will be asked to select the type of filing you are making. A comment on a particular project is considered a “Comment on a Filing”; or

(3) You may file a paper copy of your comments at the following address:

Kimberly D. Bose, Secretary, Federal Energy Regulatory Commission, 888 First Street, NE., Room 1A, Washington, DC 20426.

Environmental Mailing List

The environmental mailing list includes Federal, State, and local government representatives and agencies; elected officials; Native American Tribes; other interested parties; and local libraries and newspapers. This list also includes all affected landowners (as defined in the Commission's regulations) who are potential right-of-way grantors, whose property may be used temporarily for project purposes, or who own homes within certain distances of aboveground facilities, and anyone who submits comments on the Project. We will update the environmental mailing list as the analysis proceeds to ensure that we send the information related to this environmental review to all individuals, organizations, and government entities interested in and/or potentially affected by the proposed Project.

If the EA is published for distribution, copies will be sent to the environmental mailing list for public review and comment.

Becoming an Intervenor

In addition to involvement in the EA scoping process, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are included in the User's Guide under the “e-filing” link on the Commission's Web site.

Additional Information

Additional information about the Project is available from the Commission's Office of External Affairs, at (866) 208-FERC, or on the FERC Web site at http://www.ferc.gov using the “eLibrary” link. Click on the eLibrary link, click on “General Search” and enter the docket number, excluding the last three digits in the Docket Number field (i.e., CP11-39). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries, and direct links to the documents. Go to http://www.ferc.gov/esubscribenow.htm.

Finally, public meetings or site visits will be posted on the Commission's calendar located at http://www.ferc.gov/EventCalendar/EventsList.aspx along with other related information.

Kimberly D. Bose,
Secretary.

[FR Doc. 2011-535 Filed 1-12-11; 8:45 am]

BILLING CODE 6717-01-P